DEPARTMENT OF AGRICULTURE

Rural Utilities Service

[Docket #: RUS-22-TELECOM-0058]

Notice of Funding Opportunity for the Community Connect Grant Program for Fiscal Year 2023

AGENCY: Rural Utilities Service, USDA.

ACTION: Notice, correction, and extension of application window.

SUMMARY: The Rural Utilities Service (RUS or the Agency), a Rural Development (RD) agency of the United States Department of Agriculture (USDA), published a Notice of Funding Opportunity (NOFO) in the Federal Register on March 20, 2023, to announce the acceptance of applications under the Community Connect Grant (CCG) program for Fiscal Year 2023. The NOFO also announced the availability of approximately $79 million for FY 2023 that would be made available to eligible applicants to construct broadband networks that provide service on a community-oriented connectivity basis in rural areas. This correction notice is amending the definition of an Eligible Service Area and announcing an extension of the application window until February 20, 2024. Existing and new applicants should refer to the SUPPLEMENTARY INFORMATION section of this notice for additional guidelines on being considered for funding under this opportunity and the public notice requirement that applies.

DATES: The changes in this correction notice are effective December 19, 2023. Completed applications for grants must be submitted electronically by no later than 11:59 a.m. Eastern Time (ET), February 20, 2024.

ADDRESSES: All applications must be submitted electronically at: https://www.rd.usda.gov/community-connect. This correction to the funding opportunity will also be posted to https://www.grants.gov.

FOR FURTHER INFORMATION CONTACT: Randall Millhiser at randall.millhiser@usda.gov, Deputy Assistant Administrator, Office of Loan Origination and Approval, RUS, U.S. Department of Agriculture, 1400 Independence Avenue SW, Mail Stop 1590, Room 4121-S, Washington, DC 20250-1590, or call (202) 578-6926.

SUPPLEMENTARY INFORMATION:

Authority: The CCG program is authorized under the Rural Electrification Act of 1936 (RE Act) and implemented by 7 CFR part 1739.

Application Submission: Existing applicants that submitted an application under the original application window will need to review their application to determine if the submission remains eligible as a result of the change made to an eligible Proposed Funded Service Area in this notice. If the application is still eligible or is adjusted to become eligible, applicants must resubmit their application under this new window to be considered for funding. New applicants that meet the eligibility requirements of 7 CFR 1739 and the NOFO as amended by this notice may also submit an application for consideration.

Public Notice Requirement: The Public Notice requirement applies to all submitted applications. Once the application window closes, the Agency will publish a public notice of each application in accordance with 7 CFR 1739.15(l).

Corrections

In FR Doc. 2023-05549 of March 30, 2023 (88 FR 16579),

1. Column 3, page 16579, revise the DATE section to read as follows:

DATES: Completed applications for grants must be submitted electronically by no later than 11:59 a.m. Eastern Time (ET), February 20, 2024.

2. Column 3, page 16580, under Section C.3(a), Other, revise subparagraph (i) in its entirety and the first sentence of subparagraph (iv) to read as follows:

(i) RUS will validate that broadband service does not exist in areas that applicants describe as having no broadband access or access that is less than 10 Megabits per second (Mbps) downstream plus 1 Mbps upstream.

* * * * *

(iv) Areas receiving, or areas that have received final approval for, other federal funding to construct terrestrial facilities providing at least 10/1 Mbps service in the project Proposed Funded Service Area as of the date of this notice, and which have been reported to the agency, are ineligible. * * *

Andrew Berke,
Administrator, Rural Utilities Service, USDA Rural Development.

[FR Doc. 2023-27813 Filed 12-18-23; 8:45 am]

BILLING CODE 3410-15-P